DEPARTMENT OF COMMERCE

International Trade Administration

[A-351-806]

Silicon Metal From Brazil; Notice of Partial Rescission of Antidumping Duty Administrative Review

AGENCY: Import Administration, International Trade Administration, Department of Commerce.

ACTION: Notice of partial rescission of antidumping duty administrative review.

EFFECTIVE DATE: November 19, 2004.

FOR FURTHER INFORMATION CONTACT: Maisha Cryor or Steve Ryan, AD/CVD Operations, Office 4, Import Administration, Room 1870, International Trade Administration, U.S. Department of Commerce, 14th Street and Constitution Avenue, NW., Washington, DC 20230; telephone (202) 482-5831 or (202) 482-0065, respectively.

SUPPLEMENTARY INFORMATION:

Background

On July 1, 2004, the Department of Commerce (Department) published in the Federal Register a notice of opportunity to request an administrative review of the antidumping duty order on silicon metal from Brazil for the period July 1, 2003, through June 30, 2004. See Antidumping or Countervailing Duty Order, Finding, or Suspended Investigation; Opportunity To Request Administrative Review, 69 FR 39903 (July 1, 2004).

In accordance with 19 CFR 351.213(b)(1), on July 30, 2004, the petitioner (i.e., Globe Metallurgical Inc.) requested a review of this order with respect to the following producers/ exporters: Ligas de Aluminio S.A. (LIASA), Companhia Ferroligas de Minas Gerais S.A. (Minasligas) and Camargo Correa Metais S.A. (CCM).

The Department initiated an administrative review for LIASA, Minasligas and CCM in August 2004 and September 2004. See Initiation of Antidumping and Countervailing Duty Administrative Reviews and Request for Revocation in Part, 69 FR 52857 (August 30, 2004); see also Initiation of Antidumping and Countervailing Duty Administrative Reviews and Request for Revocation in Part, 69 FR 56745 (September 22, 2004). The Department issued questionnaires to these companies in September 2004.

In response to our questionnaires, LIASA and Minasligas notified the Department that they had no sales or exports of subject merchandise during the period of review (POR). See Letters from LIASA and Minasligas, regarding the “Thirteenth Administrative Review of Silicon Metal from Brazil” (September 24, 2004). The Department confirmed these companies' statements with U.S. Customs and Border Protection (CBP). Accordingly, we notified the petitioner that we intended to rescind this administrative review with respect to LIASA and Minasligas. See Memorandum from Maisha Cryor, Analyst, to the file, “Partial Rescission of the Antidumping Duty Administrative Review of Silicon Metal from Brazil for the Period of Review July 1, 2003, through June 30, 2004,” dated October 14, 2004. The petitioner did not object. See Memorandum from Steve Ryan, Analyst, to the file, “Silicon Metal from Brazil: Petitioner's Phone Call and Submission of Comments on Partial Rescission,” dated October 25, 2004.

Rescission of Review

Because LIASA and Minasligas had no sales or exports of subject merchandise during the POR, in accordance with 19 CFR 351.213(d)(3), and consistent with our practice, we are rescinding this review of the antidumping duty order on silicon metal from Brazil for the period of July 1, 2003, through June 30, 2004, with respect to LIASA and Minasligas. This notice is published in accordance with section 751 of the Tariff Act of 1930, as amended, and 19 CFR 351.213(d)(4).

Dated: November 5, 2004.
Jeffrey May,
Deputy Assistant Secretary for Import Administration.

[FR Doc. E4-3263 Filed 11-18-04; 8:45 am]

BILLING CODE 3510-DS-P